DEPARTMENT OF COMMERCE

United States Patent and Trademark Office

Patents for Humanity Program

ACTION: Proposed collection; comment request.

SUMMARY: The United States Patent and Trademark Office (USPTO), as part of its continuing effort to reduce paperwork and respondent burden, invites the general public and other Federal agencies to comment on proposed and/or continuing information collections, as required by the Paperwork Reduction Act of 1995, Public Law 104-13 (44 U.S.C. 3506(c)(2)(A)).

DATES: Written comments must be submitted on or before July 13, 2015.

ADDRESSES: Written comments may be submitted by any of the following methods:

• Email: InformationCollection@uspto.gov. Include “0651-0066 comment” in the subject line of the message.

• Federal Rulemaking Portal: http://www.regulations.gov.

• Mail: Marcie Lovett, Records Management Division Director, Office of the Chief Information Officer, United States Patent and Trademark Office, P.O. Box 1450, Alexandria, VA 22313-1450.

FOR FURTHER INFORMATION CONTACT: Requests for additional information should be directed to Edward Elliott, Attorney Advisor, Office of Policy and International Affairs, United States Patent and Trademark Office, P.O. Box 1450, Alexandria, VA 22313-1450; by telephone at 571-272-9300; or by email to Edward.Elliott@uspto.gov with “0651-0066 comment” in the subject line. Additional information about this collection is also available at http://www.reginfo.gov under “Information Collection Review.”

SUPPLEMENTARY INFORMATION:

I. Abstract

In 2012, the United States Patent and Trademark Office (USPTO) conducted a voluntary pilot program to incentivize the distribution of patented technologies or products for the purpose of addressing humanitarian needs. The pilot program, notice of which was published in the Federal Register (77 FRN 6544) in February 2012, was a follow-up to the responses received from the agency's “Request for Comments on Incentivizing Humanitarian Technologies and Licensing Through the Intellectual Property System”—published September 20, 2010—and was open to any patent owners or patent licensees, including inventors who had not assigned their ownership rights to others, assignees, and exclusive or non-exclusive licensees. The USPTO collected information from applicants that described what actions they had taken with their patented technology to address humanitarian needs among impoverished populations, or how they furthered research by others on technologies for humanitarian purposes. After reviewing the results of the pilot, the program was renewed as an annual program in April 2014. Currently, there are five categories in which applications can be categorized: Medicine, Nutrition, Sanitation, Household Energy, and Living Standards.

To participate in this program, applicants must submit an application describing how their actions satisfy the competition criteria to address humanitarian issues. The USPTO has developed two application forms that applicants can use to apply for participation in the Patents for Humanity Program—one application covers the humanitarian uses of technologies or products and the other application covers humanitarian research. Applicants may optionally provide contact information for the public to reach them with any inquiries. Additionally, applicants may provide non-public contact information by email to the USPTO in order to be notified about their award status. Applications must be submitted electronically as described at http://www.uspto.gov/patentsforhumanity. Complete submitted applications will be available on the public Web site after being screened for inappropriate material.

The applications are reviewed by independent judges. A selection committee composed of representatives from other federal agencies and laboratories will make recommendations for the awards based on the judges' reviews. Those applicants who are selected for an award will receive a certificate redeemable to accelerate select matters before the USPTO and public recognition of their efforts, including an awards ceremony at the USPTO. The certificates can be redeemed to accelerate one of the following matters: An ex parte reexamination proceeding, including one appeal to the Patent Trial and Appeal Board (PTAB) from that proceeding; a patent application, including one appeal to the PTAB from that application; or an appeal to the PTAB of a claim twice rejected in a patent application or reissue application or finally rejected in an ex parte reexamination, without accelerating the underlying matter which generated the appeal. The certificates cannot be transferred to other parties.

II. Method of Collection

Electronically through the http://www.uspto.gov/patentsforhumanity Web site. In the past, USPTO has used challenge.gov and skild.com as platforms to host the applications.

III. Data

OMB Number: 0651-0066.

IC Instruments: The individual instruments in this collection, as well as their associated forms, are listed in the table below.

Type of Review: Revision of an existing collection.

Affected Public: Businesses or other for-profits, non-profit institutions, and individuals.

Estimated Number of Respondents: 110 responses per year, with an estimated 33 percent (36) submitted by small entities. Of this total, the USPTO expects that 100 percent of responses will be submitted electronically through the Patents for Humanity Web site.

Estimated Time per Response: The USPTO estimates that it will take the public approximately four hours to complete the humanitarian program application and one hour to complete the petition to extend the acceleration certificate redemption period beyond 12 months, if needed, depending on the nature of the information. These estimated times include gathering the necessary information, preparing the application and any supplemental supporting materials, and submitting the completed request to the USPTO.

The time per response, estimated annual responses, and estimated annual hour burden associated with each instrument in this information collection is shown in the table below.

Estimated Total Annual Respondent Burden Hours: 410 hours.

Estimated Total Annual Respondent (Hourly) Cost Burden: $80,290. The USPTO expects that attorneys will complete the Petition to Extend the Redemption Period of the Humanitarian Awards Certificate, and that both attorneys and paralegals will complete the Humanitarian Program Application forms. Using the professional hourly rate of $389 for attorneys in private firms and a paraprofessional hourly rate of $125 for the paralegals, the USPTO estimates $80,290 per year for the respondent cost burden for this collection. However, it should be noted that attorneys are not necessary to fill out the form, and many applicants—including previous winners—have filled out the application themselves.

IC No. | Information collection instrument | Estimated time for response (minutes) | Estimated annual responses | Estimated annual burden hours | Rate ($/hr)
|  | (a) | (b) | (a) × (b)/60 = (c)
1 | Humanitarian Program Application (Humanitarian Use); PTO/PFH/001 | 60 minutes (attorney) 180 minutes (paralegal) | 85 | 340 | * 191
1 | Humanitarian Program Application (Humanitarian Research); PTO/PFH/002 | 60 minutes (attorney) 180 minutes (paralegal) | 15 | 60 | * 191
2 | Petition to Extend the Redemption Period of the Humanitarian Awards Certificate; PTO/SB/431 | 60 minutes | 10 | 10 | 389
Total |  |  | 110 | 410 |
* (Blended).

Estimated Total Annual (Non-hour) Respondent Cost Burden: $0. This collection has no annual (non-hour) postage, operation or maintenance, or fee costs.

IV. Request for Comments

Comments are invited on:

(a) Whether the proposed collection of information is necessary for the proper performance of the functions of the agency, including whether the information shall have practical utility;

(b) the accuracy of the agency's estimate of the burden (including hours and cost) of the proposed collection of information, including the validity of the methodology and assumptions used;

(c) ways to enhance the quality, utility, and clarity of the information to be collected; and

(d) ways to minimize the burden of the collection of information on respondents, including through the use of automated collection techniques or other forms of information technology, e.g., permitting electronic submission of responses.

Comments submitted in response to this notice will be summarized or included in the request for OMB approval of this information collection; they will also become a matter of public record.

Dated: May 4, 2015.
Marcie Lovett,
Records Management Division Director, USPTO, Office of the Chief Information Officer.

[FR Doc. 2015-11433 Filed 5-11-15; 8:45 am]

BILLING CODE 3510-16-P